SECURITIES AND EXCHANGE COMMISSION

Proposed Collection; Comment Request

Upon Written Request, Copies Available From: Securities and Exchange Commission, Office of Filings and Information Services, 450 Fifth Street, NW., Washington, DC 20549.

Extension

Rule 83, SEC File No. 270-82, OMB Control No. 3235-0181.

Notice is hereby given that, pursuant to the Paperwork Reduction Act of 1995 (44 U.S.C. 3501 et. seq.), the Securities and Exchange Commission (“Commission”) is soliciting comments on the collection of information summarized below. The Commission plans to submit the existing collection of information to the Office of Management and Budget for extension and approval.

Rule 83, Exemption in the Case of Transactions with Foreign Associates, authorizes an exemption from the “at cost” standard of section 13(b) of the Public Utility Holding Company Act of 1935 (the “Act”) for services provided to associated foreign utility companies.

Rule 83 requires a registered holding company system that wishes to avail itself of this exemption from section 13(b) of the Act to submit an application, in the form of a declaration, to the Commission. The Commission will grant the application if, by reason of the lack of any major interest of holders of securities offered in the United States in servicing arrangements affecting such serviced subsidiaries, such an application for exemption is necessary or appropriate in the public interest or for the protection of investors.

Rule 83 does not create a record-keeping burden or retention burden on respondents. The rule does, however, contain reporting and filing requirements. The Commission has not received any applications specifically under rule 83 in the past 3 years. The only rule 83 related filings were made within the context of larger filings concerning other matters. Therefore, we estimate the burden of rule 83 as zero.

The estimate of average burden hours is made solely for the purpose of the Paperwork Reduction Act and are not derived from a comprehensive or even a representative survey or study of the costs of SEC rules and forms.

Written comments are invited on: (a) Whether the proposed collection of information is necessary for the proper performance of the functions of the agency, including whether the information will have a practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 Fifth Street, NW., Washington, DC 20549.

Dated: December 10, 2003.
Margaret H. McFarland,
Deputy Secretary.

[FR Doc. 03-31115 Filed 12-16-03; 8:45 am]

BILLING CODE 8010-01-P